DEPARTMENT OF EDUCATION

National Assessment Governing Board

Executive Committee Meeting

AGENCY: National Assessment Governing Board, Department of Education.

ACTION: Notice of open and closed meetings.

SUMMARY: This notice sets forth the agenda, time, and instructions to access the meeting of the National Assessment Governing Board's (hereafter referred to as Governing Board or Board) special meeting of the Executive Committee. This notice provides information about the meeting to members of the public who may be interested in attending the meetings and/or providing written comments related to the work of the Governing Board. The meeting will be held virtually as noted below. Members of the public must register in advance to attend the meeting. A registration link will be posted on www.nagb.gov no later than two business days prior to the meeting.

DATES: The Executive Committee Meeting will be held on the following date:

• May 1, 2024, from 2 to 4 p.m., EDT

FOR FURTHER INFORMATION CONTACT: Angela Scott, Designated Federal Official (DFO) for the Governing Board, 800 North Capitol Street NW, Suite 825, Washington, DC 20002, telephone: (202) 357-7502, fax: (202) 357-6945, email: Angela.Scott@ed.gov.

SUPPLEMENTARY INFORMATION:

Statutory Authority and Function: The Governing Board is established under the National Assessment of Educational Progress Authorization Act, (20 U.S.C. 9621). Information on the Governing Board and its work can be found at www.nagb.gov. Notice of the meeting is required under section 1009(a)(2) of 5 U.S.C. chapter 10 (Federal Advisory Committees).

The Governing Board formulates policy for the National Assessment of Educational Progress (NAEP) administered by the National Center for Education Statistics (NCES). The Governing Board's responsibilities include:

(1) selecting the subject areas to be assessed; (2) developing appropriate student achievement levels; (3) developing assessment objectives and testing specifications that produce an assessment that is valid and reliable, and are based on relevant widely accepted professional standards; (4) developing a process for review of the assessment which includes the active participation of teachers, curriculum specialists, local school administrators, parents, and concerned members of the public; (5) designing the methodology of the assessment to ensure that assessment items are valid and reliable, in consultation with appropriate technical experts in measurement and assessment, content and subject matter, sampling, and other technical experts who engage in large scale surveys; (6) measuring student academic achievement in grades 4, 8, and 12 in the authorized academic subjects; (7) developing guidelines for reporting and disseminating results; (8) developing standards and procedures for regional and national comparisons; (9) taking appropriate actions needed to improve the form, content use, and reporting of results of an assessment; and (10) planning and executing the initial public release of NAEP reports.

Executive Committee Meeting

Wednesday, May 1, 2024

Executive Committee (Virtual)

2 p.m.-2:30 p.m. (EDT) Open Session

2:30 p.m.-4 p.m. (EDT) Closed Session

The Executive Committee will meet in open session on Wednesday, May 1, 2024, from 2 p.m. to 2:30 p.m. to review the agenda for the May 2024 Quarterly Board meeting, receive an update from the Governing Board's Executive Director and to discuss progress on the Strategic Vision refresh. The committee will meet in closed session from 2:30 to 4 p.m., to receive updates on the NAGB budget from the Governing Board's Executive Director and updates from National Center for Educational Statistics (NCES) Commissioner on the NAEP Cost Structure Review, contracting process and the NAEP Budget. The meeting will adjourn at 4 p.m. The briefing and discussion may impact current and future NAEP contracts and budgets and must be kept confidential to maintain the integrity of the Federal acquisition process. Public disclosure of this confidential information would significantly impede implementation of the NAEP assessment program if conducted in open session. Such matters are protected by exemption 9(B) of section 552b(c) of title 5 of the United States Code.

Instructions for Accessing and Attending the Meetings: Members of the public may attend the May 1, 2024, Executive Committee meeting virtually. A request for registration information should be sent to nagb@ed.gov no later than April 29. A link to the final meeting agenda and information on how to register for virtual attendance for the open sessions will be posted on the Governing Board's website at www.nagb.gov no later than two business days prior to the meeting. Registration is required to join the meeting virtually.

Public Comment: Written comments related to the work of the Governing Board and its standing committees may be submitted to the attention of the DFO no later than 10 business days prior to the meeting. Written comments may be submitted either via email to Angela.Scott@ed.gov in hard copy to the address listed above.

Access to Records of the Meeting: Pursuant to 5 U.S.C. 1009, the public may inspect the meeting materials at www.nagb.gov, which will be posted no later than five business days prior to each meeting. The public may also inspect the meeting materials and other Governing Board records at 800 North Capitol Street NW, Suite 825, Washington, DC 20002, by emailing Angela.Scott@ed.gov to schedule an appointment.

Reasonable Accommodations: The meeting location is accessible to individuals with disabilities. If you will need an auxiliary aid or service to participate in the meeting (e.g., interpreting service, assistive listening device, or materials in an alternate format), notify the DFO listed in this notice no later than ten working days prior to each meeting date.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Public Law 107-279, title III, section 301—National Assessment of Educational Progress Authorization Act (20 U.S.C. 9621).

Lesley Muldoon,
Executive Director, National Assessment Governing Board (NAGB), U.S. Department of Education.

[FR Doc. 2024-08015 Filed 4-15-24; 8:45 am]

BILLING CODE 4000-01-P